DEPARTMENT OF COMMERCE

International Trade Administration

[A-570-863]

Honey From the People's Republic of China: Initiation of Antidumping Duty New Shipper Review; 2015-2016

AGENCY: Enforcement and Compliance, International Trade Administration, Department of Commerce.

DATES: Effective February 3, 2017.

SUMMARY: The Department of Commerce (“the Department”) is initiating a new shipper review (“NSR”) with respect to Jiangsu Runchen Agricultural/Sideline Foodstuff Co., Ltd. (“Jiangsu Runchen”) in the context of the antidumping duty order on honey from the People's Republic of China (“PRC”). The period of review (“POR”) for this NSR is December 1, 2015, through November 30, 2016.

DATES: Effective February 3, 2017.

FOR FURTHER INFORMATION CONTACT: Carrie Bethea, AD/CVD Operations, Office V, Enforcement and Compliance, International Trade Administration, U.S. Department of Commerce, 1401 Constitution Avenue NW., Washington, DC 20230; telephone: 202-482-1491.

SUPPLEMENTARY INFORMATION:

Background

The Department published the antidumping duty order on honey from the PRC in the Federal Register on December 10, 2001.¹ On December 23, 2016, the Department received a NSR request from Jiangsu Runchen.² Jiangsu Runchen certified that it is the exporter and producer of the honey upon which the request for a NSR is based.³ Pursuant to section 751(a)(2)(B) of the Act and 19 CFR 351.214(b)(2)(ii), Jiangsu Runchen certified that it did not export honey for sale to the United States during the period of investigation (“POI”).⁴ Moreover, pursuant to section 751(a)(2)(B)(i)(II) of the Act and 19 CFR 351.214(b)(2)(iii)(A), Jiangsu Runchen certified that, since the initiation of the investigation, it has never been affiliated with any PRC exporter or producer who exported subject merchandise to the United States during the POI, including those respondents not individually examined during the investigation.⁵ Further, as required by 19 CFR 351.214(b)(2)(iii)(B), it certified that its export activities were not controlled by the central government of the PRC.⁶ Jiangsu Runchen also certified it had no shipments of subject merchandise subsequent to the POR.⁷

¹ See Notice of Amended Final Determination of Sales at Less Than Fair Value and Antidumping Duty Order; Honey from the People's Republic of China, 66 FR 63670 (December 10, 2001) (“Order”).

² See Letter to the Secretary from Jiangsu Runchen, “Honey from the People's Republic of China Request for New Shipper Review,” dated December 23, 2015 (“NSR Request”).

³ Id. at 2 and Attachment 1.

⁴ Id. at Attachment 1.

⁵ Id.

⁶ Id.

⁷ Id.

In addition to the certifications described above, pursuant to 19 CFR 351.214(b)(2)(iv), Jiangsu Runchen submitted documentation establishing the following: (1) The date on which it first shipped subject merchandise for export to the United States; (2) the volume of its first shipment and subsequent shipments; and (3) the date of its first sale to an unaffiliated customer in the United States.⁸

⁸ Id. at Attachment 2.

The Department queried the database of U.S. Customs and Border Protection (“CBP”) in an attempt to confirm that the shipment reported by Jiangsu Runchen had entered the United States for consumption and that liquidation had been properly suspended for antidumping duties. The information which the Department examined was consistent with that provided by Jiangsu Runchen in its request.⁹

⁹ See Memorandum to the File from Carrie Bethea, International Trade Compliance Analyst, Office V, “U.S. Customs and Border Protection Query Results for Jiangsu Runchen,” dated concurrently with this notice.

Period of Review

Pursuant to 19 CFR 351.214(c), an exporter or producer may request a NSR within one year of the date on which its subject merchandise was first entered. Moreover, 19 CFR 351.214(d)(1) states that if the request for the review is made during the six-month period ending with the end of the anniversary month, the Secretary will initiate a NSR in the calendar month immediately following the anniversary month. Further, 19 CFR 351.214(g)(1)(i)(A) states that if the NSR was initiated in the month immediately following the anniversary month, the POR will be the 12-month period immediately preceding the anniversary month. Jiangsu Runchen made the request for a NSR that included all documents and information required by the statute and regulations, within one year of the date on which its honey first entered. Its request was filed in December, which is the anniversary month of the Order. Therefore, the POR is December 1, 2015, through November 30, 2016.

Initiation of New Shipper Review

Pursuant to section 751(a)(2)(B) of the Act, 19 CFR 351.214(b) and based on the information on the record, the Department finds that Jiangsu Runchen's request meets the threshold requirements for initiation of a NSR for shipments of honey from the PRC produced and exported by Jiangsu Runchen. Accordingly, the Department is initiating a NSR of Jiangsu Runchen.¹⁰ Absent a determination that the new shipper review is extraordinarily complicated, the Department intends to issue the preliminary results of this NSR within 180 days from the date of initiation and the final results within 90 days after the date on which the preliminary results are issued.¹¹ If the information supplied by Jiangsu Runchen is found to be incorrect or insufficient during the course of this proceeding, the Department may rescind the review for Jiangsu Runchen or apply facts available pursuant to section 776 of the Act, depending on the facts on the record.

¹⁰ See `Memorandum to the File, from Carrie Bethea, International Trade Compliance Analyst, “Honey from the People's Republic of China: New Shipper Initiation Checklist,” dated concurrently with this notice.

¹¹ See Section 751(a)(2)(B)(iv) of the Act and 19 CFR 351.214(i).

It is the Department's usual practice, in cases involving non-market economies (“NMEs”), to require that a company seeking to establish eligibility for an antidumping duty rate separate from the country-wide rate (i.e., a separate rate) provide evidence of de jure and de facto absence of government control over the company's export activities.¹² Accordingly, the Department will issue questionnaires to Jiangsu Runchen that will include a section requesting information concerning its eligibility for a separate rate. The NSR will proceed if the responses provide sufficient indication that Jiangsu Runchen is not subject to either de jure or de facto government control with respect to its exports of honey from the PRC.

¹² See Import Administration Policy Bulletin Number: 05.1. (http://ia.ita.doc.gov/policy/bull05-1.pdf).

On February 24, 2016, the President signed into law the “Trade Facilitation and Trade Enforcement Act of 2015,” Public Law 114-125, which made several amendments to section 751(a)(2)(B) of the Act. We will conduct this new shipper review in accordance with section 751(a)(2)(B) of the Act, as amended by the Trade Facilitation and Trade Enforcement Act of 2015.¹³

¹³ The Trade Facilitation and Trade Enforcement Act of 2015 removed from section 751(a)(2)(B) of the Act the provision directing the Department to instruct Customs and Border Protection to allow an importer the option of posting a bond or security in lieu of a cash deposit during the pendency of a new shipper review.

Interested parties requiring access to proprietary information in this NSR should submit applications for disclosure under administrative protective order, in accordance with 19 CFR 351.305 and 19 CFR 351.306.

This initiation and notice are in accordance with section 751(a)(2)(B) of the Act, 19 CFR 351.214, and 19 CFR 351.221(c)(1)(i).

Dated: January 30, 2017.
Gary Taverman,
Associate Deputy Assistant Secretary for Antidumping and Countervailing Duty Operations.

[FR Doc. 2017-02299 Filed 2-2-17; 8:45 am]

BILLING CODE 3510-DS-P